NATIONAL CAPITAL PLANNING COMMISSION

Notice of Memorandum of Agreement

AGENCY: National Capital Planning Commission.

ACTION: Notice of Memorandum of Agreement Between the National Capital Planning Commission and the Smithsonian Institution.

SUMMARY: The National Capital Planning Commission (NCPC) and the Smithsonian Institution (Smithsonian) have entered into a Memorandum of Agreement (MOA) effective December 20, 2018. The MOA details the process the two agencies will follow to comply with the National Environmental Policy Act (NEPA) 42 U.S.C. 4371). NCPC has a NEPA obligation for projects submitted by the Smithsonian to NCPC for review and approval. The Smithsonian is not considered a federal agency for NEPA purposes and has no NEPA obligation. The MOA is required by NCPC's NEPA Regulations (1 CFR part 601) to establish a cooperative working relationship between the parties to ensure NCPC's compliance with NEPA. A copy of the MOA is online at NCPC's website at the following location: https://www.ncpc.gov/docs/MOA_NCPC_Smithsonian_NEPA_December2018.pdf.

FOR FURTHER INFORMATION CONTACT: Diane Sullivan, Director, Urban Design and Plan Review Division at (202) 482-7244 or diane.sullivan@ncpc.gov.

Authority: 42 U.S.C. 4371, 1 CFR 601.5(b).

Dated: February 5, 2019.
Anne Schuyler,
General Counsel.

[FR Doc. 2019-01710 Filed 2-8-19; 8:45 am]

BILLING CODE P